DEPARTMENT OF STATE

[Public Notice 3424]

Office of the Coordinator for Counterterrorism; Designation of a Foreign Terrorist Organization

AGENCY: Department of State.

ACTION: Designation of a Foreign Terrorist Organization.

Pursuant to Section 219 of the Immigration and Nationality Act (“INA”), as added by the Antiterrorism and Effective Death Penalty Act of 1996, Public Law 104-132, section 302, 110 Stat. 1214, 1248 (1996), and amended by the Illegal Immigration Reform and Immigrant Responsibility Act of 1996, Public Law 104-208, 110 Stat. 3009 (1996), the Secretary of State hereby designates, effective September 25, 2000, the following organization as a foreign terrorist organization:

The Islamic Movement of Uzbekistan

Dated: September 21, 2000.
Ambassador Michael A. Sheehan,
Coordinator for Counterterrorism, Department of State.

[FR Doc. 00-24744 Filed 9-22-00; 9:10 am]

BILLING CODE 4710-25-P